DEPARTMENT OF HOMELAND SECURITY

Federal Emergency Management Agency

44 CFR Part 67

[Docket ID FEMA-2008-0020; Internal Agency Docket No. FEMA-B-1076]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before February 23, 2010.

ADDRESSES: The corresponding preliminary Flood Insurance Rate Map (FIRM) for the proposed BFEs for each community is available for inspection at the community's map repository. The respective addresses are listed in the table below.

You may submit comments, identified by Docket No. FEMA-B-1076, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground ^ Elevation in meters (MSL): Effective | *Elevation in feet (NGVD) +Elevation in feet (NAVD) #Depth in feet above ground ^ Elevation in meters (MSL): Modified | Communities affected
Greene County, Georgia, and Incorporated Areas
Oconee River | Approximately 0.79 mile downstream of the Oglethorpe/Greene County Border | None | +459 | Unincorporated Areas of Greene County.
| At the Oglethorpe/Greene County border | None | +462 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Greene County
Maps are available for inspection at the Greene County Administration Building, 1034 Silver Drive, Suite 104, Greensboro, GA 30642.
Twiggs County, Georgia, and Incorporated Areas
Ocmulgee River | Approximately 0.5 mile southwest of the intersection of Alfred Bond Drive and Cochran Short Route | None | +277 | Unincorporated Areas of Twiggs County.
| Approximately 1.3 mile northwest of the intersection of Alfred Bond Drive and Cochran Short Route | None | +278 |
Stone Creek | Approximately 600 feet downstream of the downstream-most Twiggs-Bibb County Boundary | None | +357 | Unincorporated Areas of Twiggs County.
| Approximately 300 feet upstream of the upstream-most Twiggs-Bibb County Boundary | None | +373 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Twiggs County
Maps are available for inspection at the Twiggs County Courthouse, 425 Railroad Street North, Jefferson, GA 31044.
City and County of Honolulu, Hawaii
Pacific Ocean | Approximately 1,275 feet north of the intersection of Lihue Drive and Plantation Road | None | ^ 1 | City and County of Honolulu.
| Approximately 5,025 feet southeast of the intersection of Poipu Drive and Nawiliwili Street | None | ^ 51 |
Pacific Ocean/Pearl Harbor | Approximately 700 feet east of the intersection of Wasp Boulevard and Lexington Boulevard | None | #2 | City and County of Honolulu.
| Approximately 600 feet south of the intersection of Lehua Avenue and Coral Avenue | None | #2 |
| Approximately 880 feet northwest of intersection of Kamehameha Street and Kalaloa Street | None | #1 |
| Approximately 325 feet southeast of the intersection of Ibis Avenue and Heron Avenue | None | #2 |
| Approximately 3,250 feet southwest of the intersection of Plantation Road and Waipio Point Access Road | None | #2 |
| Approximately 450 feet east of the intersection of 101st Street and Heron Avenue | None | ^ 1 |
| Approximately 1,775 feet southwest of the intersection of Signer Boulevard and Second Street | None | ^ 11 |
| Approximately 1,565 feet south of the intersection of Signer Boulevard and Second Street | None | #2 |
* National Geodetic Vertical Datum.
+ North American Vertical Datum.
# Depth in feet above ground.
^ Local Tidal Datum.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City and County of Honolulu
Maps are available for inspection at the Honolulu City and County Emergency Management Department, 650 South King Street, Basement, Honolulu, HI 96813.
Lake County, Indiana, and Incorporated Areas
Dyer Ditch | Just upstream of 213th Street | +624 | +619 | Unincorporated Areas of Lake County, Town of Dyer, Town of Schererville.
| Just upstream of 77th Avenue | None | +638 |
Hart Ditch | At the confluence with Little Calumet River | +599 | +596 | Town of Dyer, Town of Munster.
| Approximately 1,650 feet upstream of Hart Street | +636 | +637 |
Lake Michigan | Eastern Lake County Border | +584 | +585 | City of East Chicago, City of Gary, City of Hammond, City of Whiting.
| At Indiana/Illinois State Boundary | +584 | +585 |
Main Beaver Dam Ditch | Just downstream of Broadway | None | +684 | Town of Merrillville.
| Approximately 1,000 feet upstream of Broadway | None | +684 |
| Approximately 1,600 feet downstream of 91st Avenue | None | +689 |
| Just downstream of 91st Avenue | None | +689 |
Main Beaver Dam Ditch | Approximately 730 feet west of Clark Road | None | +690 | Town of Schererville.
Main Beaver Dam Ditch South Tributary | Approximately 425 feet downstream of US 231 | None | +694 | Unincorporated Areas of Lake County.
| Just downstream of 113th Avenue | None | +695 |
McConnel Ditch | Approximately 1,280 feet downstream of Morse Street | None | +674 | Town of Lowell.
| Just downstream of Morse Street | None | +678 |
Niles Ditch | Just upstream of 101st Avenue | None | +676 | Town of Merrillville.
| Approximately 150 feet upstream of 101st Avenue | None | +676 |
Seberger Ditch | Just upstream of East Main Street | +621 | +620 | Town of Griffith, Town of Schererville.
| Approximately 200 feet upstream of Redar Drive | +634 | +633 |
Spring Street Ditch | Approximately 0.5 mile east of Kennedy Avenue | None | +622 | Town of Griffith.
| Just upstream of railroad | None | +622 |
Turkey Creek | Approximately 500 feet upstream of I-65 | +613 | +614 | Unincorporated Areas of Lake County, Town of Merrillville, Town of Schererville.
| Approximately 150 feet upstream of 85th Street | None | +670 |
Unnamed Tributary (Backwater from West Creek) | Just upstream of Conrail Railroad | None | +674 | Unincorporated Areas of Lake County.
| Just downstream of Louisville and Nashville Railroad | None | +674 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of East Chicago
Maps are available for inspection at 4444 Railroad Avenue, East Chicago, IN 46312.
City of Gary
Maps are available for inspection at 401 West Broadway, Gary, IN 46402.
City of Hammond
Maps are available for inspection at 5925 Calumet Avenue, Hammond, IN 46322.
City of Whiting
Maps are available for inspection at 1443 119th Street, Whiting, IN 46394.
Town of Dyer
Maps are available for inspection at 1 Town Square, Dyer, IN 46311.
Town of Griffith
Maps are available for inspection at 111 North Broad Street, Griffith, IN 46319.
Town of Lowell
Maps are available for inspection at 501 East Main Street, Lowell, IN 46356.
Town of Merrillville
Maps are available for inspection at 7820 Broadway, Merrillville, IN 46410.
Town of Munster
Maps are available for inspection at 1005 Ridge Road, Munster, IN 46321.
Town of Schererville
Maps are available for inspection at 10 East Joliet Street, Schererville, IN 46375.
Unincorporated Areas of Lake County
Maps are available for inspection at 2293 North Main Street, Crown Point, IN 46307.
Adair County, Kentucky, and Incorporated Areas
Bryant Creek (Backwater effects from Green River Lake) | From the confluence with Green River Lake to approximately 1.3 mile upstream of the confluence with Green River Lake | None | +713 | Unincorporated Areas of Adair County.
Casey Creek (Backwater effects from Green River Lake) | From the confluence with Green River Lake to approximately 3.4 miles upstream of the confluence with Green River Lake | None | +713 | Unincorporated Areas of Adair County.
Casey Creek Tributary 10 (Backwater effects from Green River Lake) | From the confluence with Casey Creek to approximately 1.1 mile upstream of the confluence with Casey Creek | None | +713 | Unincorporated Areas of Adair County.
Casey Creek Tributary 8 (Backwater effects from Green River Lake) | From the confluence with Casey Creek to approximately 0.6 mile upstream of the confluence with Casey Creek | None | +713 | Unincorporated Areas of Adair County.
Crooked Creek (Backwater effects from Green River Lake) | From the confluence with Casey Creek to approximately 2.1 miles upstream of the confluence with Casey Creek | None | +713 | Unincorporated Areas of Adair County.
Crooked Creek Tributary 10 (Backwater effects from Green River Lake) | From the confluence with Crooked Creek to approximately 0.2 mile upstream of the confluence with Crooked Creek | None | +713 | Unincorporated Areas of Adair County.
Denton Branch (Backwater effects from Green River Lake) | From the confluence with Green River Lake to approximately 0.6 mile upstream of the confluence with Green River Lake | None | +713 | Unincorporated Areas of Adair County.
Green River (Backwater effects from Green River Lake) | From the confluence with Green River Lake to approximately 3.5 miles upstream of the confluence with Green River Lake | None | +713 | Unincorporated Areas of Adair County.
Green River Lake | Entire shoreline of Green River Lake | None | +713 | Unincorporated Areas of Adair County.
North White Oak Creek (Backwater effects from Green River Lake) | From the confluence with Green River Lake to approximately 1.1 mile upstream of the confluence with Green River Lake | None | +713 | Unincorporated Areas of Adair County.
Snake Creek (Backwater effects from Green River Lake) | From the confluence with Green River Lake to approximately 1.4 mile upstream of the confluence with Green River Lake | None | +713 | Unincorporated Areas of Adair County.
Spout Springs Branch (Backwater effects from Green River Lake) | From the confluence with Green River to approximately 2.1 miles upstream of the confluence with Green River | None | +713 | Unincorporated Areas of Adair County.
West Butler Creek (Backwater effects from Green River Lake) | From the confluence with Green River Lake to approximately 0.9 mile upstream of the confluence with Green River Lake | None | +713 | Unincorporated Areas of Adair County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Adair County
Maps are available for inspection at 424 Public Square, Suite 1, Columbia, KY 42728.
Lafayette County, Mississippi, and Incorporated Areas
Burney Branch | Approximately 0.5 mile downstream from Veterans Drive | None | +350 | City of Oxford.
| Approximately 1,727 feet upstream of Sisk Avenue | None | +454 |
Davidson Creek | Approximately 0.4 mile downstream of College Hill Road | +357 | +355 | City of Oxford.
| Approximately 1,444 feet downstream of College Hill Road | +360 | +359 |
Enid Lake/Yocona River | Just downstream of County Road 387 | None | +274 | Unincorporated Areas of Lafayette County.
| Approximately 1 mile downstream of State Highway 315 | None | +274 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Oxford
Maps are available for inspection at the City Hall, 107 Courthouse Square, Oxford, MS 38655.
Unincorporated Areas of Lafayette County
Maps are available for inspection at the County Courthouse, 1 Courthouse Square, Oxford, MS 38655.
Chenango County, New York (All Jurisdictions)
Canasawacta Creek | At the confluence with Chenango River | +991 | +990 | City of Norwich, Town of Norwich.
| Approximately 825 feet upstream of the confluence with Chenango River | +991 | +990 |
Chenango River | At downstream county boundary | +900 | +899 | City of Norwich, Town of Greene, Town of North Norwich, Town of Norwich, Town of Oxford, Town of Preston, Town of Sherburne, Town of Smyrna, Village of Earlville, Village of Greene, Village of Oxford, Village of Sherburne.
| At upstream county boundary | None | +1074 |
Kelsey Brook | At the confluence with Susquehanna River | +969 | +972 | Village of Afton.
| Approximately 995 feet upstream of Main Street/State Route 7 | +971 | +972 |
Susquehanna River | At downstream county boundary | +963 | +965 | Town of Afton, Town of Bainbridge, Village of Afton, Village of Bainbridge.
| At upstream county boundary | +985 | +987 |
Unadilla River | At the confluence with Susquehanna River | None | +987 | Town of Bainbridge, Town of Guilford, Town of New Berlin, Town of Norwich, Village of New Berlin.
| Approximately 1.7 miles upstream of State Highway 80 | None | +1101 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Norwich
Maps are available for inspection at the Norwich City Hall, 1 City Plaza, Norwich, NY 13814.
Town of Afton
Maps are available for inspection at the Afton Town Hall, 169 Main Street, Afton, NY 13730.
Town of Bainbridge
Maps are available for inspection at the Bainbridge Town Hall, 15 North Main Street, Bainbridge, NY 13733.
Town of Greene
Maps are available for inspection at the Greene Town Hall, 51 Genesee Street, Greene, NY 13778.
Town of Guilford
Maps are available for inspection at the Town Hall, 223 Marble Road, Guilford, NY 13780.
Town of New Berlin
Maps are available for inspection at the New Berlin Town Hall, 30 North Main Street, New Berlin, NY 13411.
Town of North Norwich
Maps are available for inspection at the Town Hall, 188 County Road 23, North Norwich, NY 13814.
Town of Norwich
Maps are available for inspection at the Norwich Town Hall, 157 County Road 32A, Norwich, NY 13815.
Town of Oxford
Maps are available for inspection at the Oxford Town Hall, 20 Lafayette Park, Oxford, NY 13830.
Town of Preston
Maps are available for inspection at the Preston Town Barn, 671 Tamarack Road, Oxford, NY 13830.
Town of Sherburne
Maps are available for inspection at the Sherburne Town Hall, 1 Canal Street, Sherburne, NY 13460.
Town of Smyrna
Maps are available for inspection at the Town Clerk's Office, 1893 State Highway 80, Smyrna, NY 13464.
Village of Afton
Maps are available for inspection at the Afton Village Hall, 105 Main Street, Afton, NY 13730.
Village of Bainbridge
Maps are available for inspection at the Bainbridge Village Office, 33 West Main Street, Bainbridge, NY 13733.
Village of Earlville
Maps are available for inspection at the Village Hall, 8 North Main Street, Earlville, NY 13332.
Village of Greene
Maps are available for inspection at the Greene Village Hall, 49 Genesee Street, Greene, NY 13778.
Village of New Berlin
Maps are available for inspection at the New Berlin Village Hall, 13 South Main Street, New Berlin, NY 13411.
Village of Oxford
Maps are available for inspection at the Oxford Village Hall, 20 Lafayette Park, Oxford, NY 13830.
Village of Sherburne
Maps are available for inspection at the Sherburne Village Hall, 15 West State Street, Sherburne, NY 13460.
Delaware County, New York (All Jurisdictions)
Bear Brook | From the confluence with Sands Creek | None | +938 | Town of Hancock.
| To approximately 150 feet upstream of County Route 67 | None | +946 |
Beaver Kill | From the confluence with East Branch Delaware River Reach 1 | +1,011 | +1008 | Town of Hancock, Town of Colchester.
| To approximately 0.9 mile upstream of State Route 17 at county boundary | None | +1257 |
Charlotte Creek | From the confluence with Susquehanna River | +1101 | +1102 | Town of Davenport, Town of Harpersfield.
| To approximately 1.1 mile upstream of Johnson Road | None | +1327 |
Delaware River | From approximately 5.7 miles downstream of Lordville Road | +840 | +841 | Town of Hancock, Village of Hancock.
| To the confluence of East Branch Delaware River and West Branch Delaware River | +903 | +904 |
East Branch Delaware River Reach 1 | From the confluence with Delaware River and East Branch Delaware River Reach 1 | +903 | +904 | Town of Hancock, Town of Colchester, Village of Hancock.
| To approximately 1,550 feet upstream of State Route 30 | +1103 | +1107 |
East Branch Delaware River Reach 2 | From approximately 0.6 mile downstream of Fair Street | None | +1308 | Town of Middletown, Village of Margaretville.
| To approximately 0.5 mile downstream of Fair Street | None | +1308 |
East Brook | From the confluence with West Branch Delaware River | +1213 | +1212 | Village of Walton, Town of Walton.
| To approximately 0.9 mile upstream of Brook Dam Road | +1287 | +1288 |
Little Delaware River | From the confluence with West Branch Delaware River | +1344 | +1346 | Town of Delhi.
| To approximately 220 feet downstream of Arbor Hill Road | +1345 | +1346 |
Ouleout Creek | From approximately 1.56 mile upstream of East Sidney Lake Dam | None | +1198 | Town of Franklin.
| To approximately 1.6 mile upstream of East Sidney Lake Dam | None | +1198 |
Sands Creek | From the confluence with West Branch Delaware River | +911 | +913 | Village of Hancock, Town of Hancock.
| To the confluence with Bear Brook | None | +938 |
Steele Brook | From the confluence with West Branch Delaware River | +1356 | +1358 | Village of Delhi.
| To approximately 630 feet downstream of Elm Street | +1357 | +1358 |
Susquehanna River | From approximately 0.7 mile downstream of State Route 8 | +985 | +987 | Village of Sidney, Town of Davenport, Town of Sidney.
| To approximately 0.6 mile downstream of County Highway 47 | +1101 | +1102 |
Third Brook | From the confluence with West Brook | +1206 | +1208 | Village of Walton, Town of Walton.
| To approximately 1.1 mile upstream of Ogden Street | +1390 | +1391 |
Vly Creek | Approximately 2,625 feet downstream of County Route 37 | None | +1558 | Village of Fleischmanns.
| To approximately 2,550 feet downstream of County Route 37 | None | +1559 |
West Branch Delaware River | From the confluence with Delaware River | +903 | +904 | Town of Hancock, Town of Delhi, Town of Deposit, Town of Hamden, Town of Kortright, Town of Tompkins, Town of Walton, Village of Delhi, Village of Hancock, Village of Walton.
| To approximately 1.1 mile upstream of Hoag Cross Road | None | +1410 |
West Brook | From the confluence with West Branch Delaware River | +1206 | +1208 | Village of Walton, Town of Walton.
| To approximately 1.4 mile upstream of Walton-Sidney Road | None | +1368 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Colchester
Maps are available for inspection at the Colchester Town Building Department, 72 Tannery Road, Downsville, NY 13755.
Town of Davenport
Maps are available for inspection at the Town Hall, 11790 State Highway 23, Davenport Center, NY 13751.
Town of Delhi
Maps are available for inspection at the Delhi Town Building Code Office, 3 Elm Street, Delhi, NY 13753.
Town of Deposit
Maps are available for inspection at the Town Hall, 3 Elm Street, Deposit, NY 13754.
Town of Franklin
Maps are available for inspection at the Town Hall, 554 Main Street, Franklin, NY 13775.
Town of Hamden
Maps are available for inspection at the Town Hall, Route 10 and Covert Hollow Road, Hamden, NY 13782.
Town of Hancock
Maps are available for inspection at the Hancock Town Hall, 661 West Main Street, Hancock, NY 13783.
Town of Harpersfield
Maps are available for inspection at the Town Hall, 25399 State Highway 23, Harpersfield, NY 13786.
Town of Kortright
Maps are available for inspection at the Kortright Town Hall, 51702 State Highway 10, Bloomville, NY 13739.
Town of Middletown
Maps are available for inspection at the Middletown Town Hall, 42339 State Highway 28, Margaretville, NY 12455.
Town of Sidney
Maps are available for inspection at the Sidney Town Civic Center, 21 Liberty Street, Suite 1, Sidney, NY 13838.
Town of Tompkins
Maps are available for inspection at the Tompkins Town Hall, 148 Bridge Street, Trout Creek, NY 13847.
Town of Walton
Maps are available for inspection at the Walton Town Hall, 129 North Street, Walton, NY 13856.
Village of Delhi
Maps are available for inspection at the Delhi Village Building Enforcement Office, 9 Court Street, Delhi, NY 13753.
Village of Fleischmanns
Maps are available for inspection at the Village Hall, 1017 Main Street, Fleischmanns, NY 12430.
Village of Hancock
Maps are available for inspection at the Hancock Village Hall, 85 East Front Street, Hancock, NY 13783.
Village of Margaretville
Maps are available for inspection at the Village Hall, 773 Main Street, Margaretville, NY 12445.
Village of Sidney
Maps are available for inspection at the Sidney Village Hall, 21 Liberty Street, Sidney, NY 13838.
Village of Walton
Maps are available for inspection at the Walton Village Hall, 21 North Street, Walton, NY 13856.
Onondaga County, New York (All Jurisdictions)
Deruyter Reservoir | Shoreline of Deruyter Reservoir within Onondaga County | None | +1282 | Town of Fabius.
Geddes Brook | Approximately 245 feet downstream of Gere Lock Road | None | +381 | Village of Solvay.
| At Gere Lock Road bridge | None | +396 |
Otisco Lake | Entire shoreline of Otisco Lake within the Towns of Marcellus, Spafford, and Otisco | None | +789 | Town of Marcellus, Town of Otisco, Town of Spafford.
Thompson Brook | At South Bay Road Bridge | None | +382 | Village of North Syracuse.
| Approximately 265 feet upstream of I-481 ramp | None | +383 |
Tully Lake | Shoreline of Tully Lake within Onondaga County | None | +1195 | Town of Tully.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Fabius
Maps are available for inspection at the Town Hall, 7891 Main Street, Fabius, NY 13063.
Town of Marcellus
Maps are available for inspection at the Town Hall, 24 East Main Street, Marcellus, NY 13108.
Town of Otisco
Maps are available for inspection at the Otisco Town Hall, 1924 Barker Street, Tully, NY 13159.
Town of Spafford
Maps are available for inspection at the Spafford Town Hall, 1984 Route 174, Skaneateles, NY 13152.
Town of Tully
Maps are available for inspection at the Town Hall, 5833 Meetinghouse Road, Tully, NY 13159.
Village of North Syracuse
Maps are available for inspection at the Village Hall, 600 South Bay Road, North Syracuse, NY 13212.
Village of Solvay
Maps are available for inspection at the Village Hall, 1100 Woods Road, Solvay, NY 13209.
Schoharie County, New York (All Jurisdictions)
Cobleskill Creek | Approximately 490 feet downstream of New York State Route 10/7 | +918 | +919 | Town of Richmondville, Town of Cobleskill, Village of Richmondville.
| Approximately 600 feet upstream of I-88 Exit 20 Ramp | None | +1013 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Cobleskill
Maps are available for inspection at 2668 State Route 7, Suite 13, Cobleskill, NY 12043.
Town of Richmondville
Maps are available for inspection at the Richmondville Town Hall, 340 Main Street, Richmondville, NY 12149.
Village of Richmondville
Maps are available for inspection at the Richmondville Village Hall, 295 Main Street, Richmondville, NY 12149.
Alleghany County, Virginia, and Incorporated Areas
Jackson River | Approximately 1.1 mile downstream of State Route 18 | +1188 | +1187 | City of Covington.
| Approximately 1,200 feet upstream of the confluence of Dry Run Branch | +1247 | +1246 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Covington
Maps are available for inspection at City Hall, 333 West Locust Street, Covington, VA 24426.
Botetourt County, Virginia, and Incorporated Areas
Cowpasture River Reach 1 | At county boundary | None | +1014 | Unincorporated Areas of Botetourt County.
| At confluence with James River | +1015 | +1014 |
Cowpasture River Reach 2 | Approximately 1,300 feet downstream of downstream county boundary | None | +1030 | Unincorporated Areas of Botetourt County.
| At upstream county boundary | None | +1042 |
Jackson River | At confluence with James River | +1015 | +1014 | Unincorporated Areas of Botetourt County.
| At county boundary | +1021 | +1014 |
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Botetourt County
Maps are available for inspection at the County Courthouse, 1 West Main Street, Fincastle, VA 24090.

(Catalog of Federal Domestic Assistance No. 97.022, “Flood Insurance.”)

Deborah S. Ingram,
Acting Deputy Assistant Administrator for Mitigation, Mitigation Directorate, Department of Homeland Security, Federal Emergency Management Agency.

[FR Doc. E9-28312 Filed 11-24-09; 8:45 am]

BILLING CODE 9110-12-P